DEPARTMENT OF JUSTICE

Notice of Lodging of Consent Decree Under the Clean Air Act

Under 28 CFR 50.7, notice is hereby given that on June 15, 2005, a proposed Consent Decree in United States v. Volkswagen of America, Inc., Civil Action No. 1:05-cv-01193-GK, was lodged with the United States District Court for the District of Columbia.

The proposed Consent Decree settles claims that defendant Volkswagen of America, Inc. (“VWoA”) violated section 203(a)(2)(A) of the Clean Air Act (the “Act”), 42 U.S.C. 7522(a)(2)(A), by failing to timely file a defect investigation report with the United States Environmental Protection Agency disclosing an emission-related defect in 1999-2001 model year Golf, Jetta, and New Beetle light-duty vehicles sold in the United States. Such a report is required by 40 CFR 85.1903, which implements section 208(a) of the Act, 42 U.S.C. 7542(a). Pursuant to the terms of the proposed Consent Decree VWoA will pay a civil penalty in the amount of $1.1 million, and improve its emission defect investigation and reporting system. VWoA already completed a voluntary recall to correct the defect.

The proposed Consent Decree may be examined at the office of the United States Attorney for the District of Columbia, Judiciary Center Building, 555 Fourth Street, NW., Washington, DC 20530. During the public comment period the proposed Consent Decree may also be examined on the following Department of Justice Web site, http://www.usdoj.gov/enrd/open/html. A copy of the proposed Consent Decree may also be obtained by mail from the Consent Decree Library, PO Box 7611, U.S. Department of Justice, Washington, DC 20044-7611 or by faxing or e-mailing a request to Tonia Fleetwood (tonia.fleetwood@usdoj.gov), fax No. (202) 514-0097, phone confirmation number (202) 514-1547. In requesting a copy from the Consent Decree Library, please enclose a check in the amount of $7.50 (25 cents per page reproduction cost) payable to the U.S. Treasury.

Karen S. Dworkin,
Assistant Chief, Environment & Natural Resources Division, Environmental Enforcement Section.

[FR Doc. 05-13833 Filed 7-13-05; 8:45 am]

BILLING CODE 4410-15-M